NUCLEAR REGULATORY COMMISSION

[IA-07-008]

In the Matter of James Francis Mattocks; Order Prohibiting Involvement in NRC-Licensed Activities (Immediately Effective)

I

Mr. James Francis Mattocks was employed as a contract security officer at Florida Power and Light Company's St. Lucie Nuclear Plant (Licensee) from approximately September 6, 2005, to January 7, 2006. Licensee holds license Nos. DPR-67 and NPF-16, issued by the U.S. Nuclear Regulatory Commission (NRC or Commission) pursuant to 10 CFR Part 50 on March 1, 1976 (Unit 1), and June 10, 1983 (Unit 2). The license authorizes the operation of the St. Lucie Nuclear Plant, Units 1 and 2, in accordance with the conditions specified therein. The facility is located on the Licensee's site in St. Lucie County, Florida.

II

In 2006, Florida law enforcement officials conducted a criminal investigation into the theft of a weapon and thermal imaging scope from the Licensee's facility. As a result of the investigation, the State of Florida concluded that in December 2005, Mr. Mattocks, while employed as a contract security officer, deliberately removed a Bushmaster .223 Caliber M4/A3 assault rifle and thermal imaging scope from the Licensee's facility without authorization. On December 20, 2006, Mr. Mattocks entered a plea of guilty to the charge of Grand Theft—Firearm in the Circuit Court for St. Lucie County and was adjudged guilty of the charge upon the Court's acceptance of his plea. Mr. Mattocks was sentenced to 14 months of incarceration to be followed by 2 years probation.

License Nos. DPR-67 and NPF-16, Section 3.F, Physical Protection, require the Licensee to fully implement and maintain in effect all provisions of the Commission-approved physical security, training and qualification, and safeguards contingency plans including amendments. The Licensee's Physical Security Plan (PSP), Section 15.6, establishes the requirement that the Licensee maintain a firearms program to ensure firearms function properly. The PSP states, in part, that the program is described in facility procedures and includes provisions to account for Licensee firearms. Licensee implementing procedure, SEC-AD-1003, Section 5.1.2 states, in part, that for any weapon that is taken from the station's inventory for disposal or sale, the station will document the weapon by make, model, name of institution or individual the weapon's accountability was transferred to, signature of the Security Manager/designee releasing ownership of the weapon, and the date the weapon was released from the station's inventory. In this case, Mr. Mattocks removed the weapon and scope from station inventory without any authorization or approvals.

III

Based on the above, Mr. James Francis Mattocks, a former employee of the Licensee, has engaged in deliberate misconduct that has caused the Licensee to be in violation of 10 CFR 50.5. NRC must be able to rely on the Licensee and its employees to comply with NRC requirements with honesty and integrity. Mr. Mattocks' actions in this case caused the Licensee to violate its PSP and raise serious doubt as to whether he can be relied upon to comply with NRC requirements with honesty and integrity. Consequently, I lack the requisite reasonable assurance that licensed activities can be conducted in compliance with the Commission's requirements and that the health and safety of the public will be protected if Mr. James Francis Mattocks were permitted at this time to be involved in NRC licensed activities. Therefore, the public health, safety and interest require that Mr. James Francis Mattocks be prohibited from any involvement in NRC-licensed activities for a period of five years from the date of this Order. Additionally, Mr. James Francis Mattocks is required to notify the NRC of his first employment in NRC-licensed activities for a period of three years following expiration of the prohibition period. Furthermore, pursuant to 10 CFR 2.202, I find that the significance of Mr. James Francis Mattocks' conduct described above is such that the public health, safety and interest require that this Order be immediately effective.

IV

Accordingly, pursuant to sections 103, 104b, 161b, 161i, 182 and 186 of the Atomic Energy Act of 1954, as amended, and the Commission's regulations in 10 CFR 2.202, 10 CFR 50.5, and 10 CFR 150.20, It is hereby ordered, effective immediately, that:

1. Mr. James Francis Mattocks is prohibited from engaging in NRC-licensed activities for a period of five years from the date of this Order. NRC-licensed activities are those activities that are conducted pursuant to a specific or general license issued by the NRC, including, but not limited to, those activities of Agreement State licensees conducted pursuant to the authority granted by 10 CFR 150.20.

2. If Mr. James Francis Mattocks is currently involved in licensed activities on behalf of an NRC licensee, he must immediately cease those activities, inform the NRC of the name, address and telephone number of the licensee employer, and provide a copy of this order to the licensee employer.

3. For a period of three years after the five year period of prohibition has expired, Mr. James Francis Mattocks shall, within 20 days of acceptance of an offer of employment involving his performance of NRC-licensed activities or his becoming involved in NRC-licensed activities, as defined in Paragraph IV.1 above, provide notice to the Director, Office of Enforcement (OE), U.S. Nuclear Regulatory Commission, Washington, DC 20555-0001, of the name, address, and telephone number of the employer or the entity on whose behalf he will be involved in the NRC-licensed activities. In the notification, Mr. James Francis Mattocks shall include a statement of his commitment to compliance with regulatory requirements and the basis upon which the Commission should have confidence that he will now comply with applicable NRC requirements.

The Director, OE, may, in writing, relax or rescind any of the above conditions upon demonstration by Mr. James Francis Mattocks of good cause.

V

In accordance with 10 CFR 2.202, Mr. James Francis Mattocks must, and any other person adversely affected by this Order may, submit an answer to this Order within 20 days of the date of this Order or other such time as may be specified in this Order. In addition, Mr. James Francis Mattocks and any other person adversely affected by this Order may request a hearing on this Order within 20 days of the date of this Order. Where good cause is shown, consideration will be given to extending the time to request a hearing. A request for extension of time must be made in writing to the Director, Office of Enforcement, U.S. Nuclear Regulatory Commission, Washington, DC 20555-0001, and include a statement of good cause for the extension. The answer may consent to this Order. Unless the answer consents to this Order, the answer shall, in writing and under oath or affirmation, specifically admit or deny each allegation or charge made in this Order and shall set forth the matters of fact and law on which Mr. James Francis Mattocks or other person adversely affected relies and the reasons as to why the Order should not have been issued. Any answer or request for a hearing shall be submitted to the Secretary, U.S. Nuclear Regulatory Commission, Attn: Rulemakings and Adjudications Staff, Washington, DC 20555-0001. Copies also shall be sent to the Director, Office of Enforcement, U.S. Nuclear Regulatory Commission, Washington, DC 20555-0001, to the Assistant General Counsel for Materials Litigation and Enforcement at the same address, to the Regional Administrator, NRC Region II, 61 Forsyth Street, SW., Atlanta, GA, 30303, and to Mr. James Francis Mattocks if the answer or hearing request is by a person other than Mr. James Francis Mattocks. Because of continuing disruptions in delivery of mail to United States Government offices, it is requested that answers and requests for hearing be transmitted to the Secretary of the Commission either by means of facsimile transmission to 301-415-1101 or by e-mail to hearingdocket@nrc.gov and also to the Office of the General Counsel either by means of facsimile transmission to 301-415-3725 or by e-mail to OGCMail Center@nrc.gov. If a person other than the licensee requests a hearing, that person shall set forth with particularity the manner in which his interest is adversely affected by this Order and shall address the criteria set forth in 10 CFR 2.390(d).

If a hearing is requested by Mr. James Francis Mattocks or a person whose interest is adversely affected, the Commission will issue an Order designating the time and place of any hearing. If a hearing is held, the issue to be considered at such hearing shall be whether this Order should be sustained.

Pursuant to 10 CFR 2.202(c)(2)(i), Mr. James Francis Mattocks, may, in addition to demanding a hearing, at the time the answer is filed or sooner, move the presiding officer to set aside the immediate effectiveness of the Order on the ground that the Order, including the need for immediate effectiveness, is not based on adequate evidence but on mere suspicion, unfounded allegations, or error.

In the absence of any request for hearing, or written approval of an extension of time in which to request a hearing, the provisions specified in Section IV above shall be effective immediately and final 20 days from the date of this Order without further order or proceedings. If an extension of time for requesting a hearing has been approved, the provisions specified in Section IV shall be final when the extension expires if a hearing request has not been received.

Dated this 21st day of March 2007.
For the Nuclear Regulatory Commission.
Martin J. Virgilio,
Deputy Executive Director for Materials, Waste, Research, State, Tribal, and Compliance Programs, Office of the Executive Director for Operations.

[FR Doc. E7-5640 Filed 3-27-07; 8:45 am]

BILLING CODE 7590-01-P